DEPARTMENT OF THE INTERIOR

National Park Service

[NPS-WASO-NAGPRA-NPS0036561; PPWOCRADN0-PCU00RP14.R50000]

Notice of Inventory Completion: Illinois State Museum, Springfield, IL

AGENCY: National Park Service, Interior.

ACTION: Notice.

SUMMARY: In accordance with the Native American Graves Protection and Repatriation Act (NAGPRA), the Illinois State Museum has completed an inventory of human remains and has determined that there is a cultural affiliation between the human remains and Indian Tribes or Native Hawaiian organizations in this notice. The human remains were removed from Camden, Madison, Phelps, Pulaski, Ralls, and St. Louis Counties, Missouri.

DATES: Repatriation of the human remains in this notice may occur on or after October 16, 2023.

ADDRESSES: Brooke M. Morgan, Illinois State Museum Research & Collections Center, 1011 East Ash Street, Springfield, IL 62701, telephone (217) 785-8930, email brooke.morgan@illinois.gov.

SUPPLEMENTARY INFORMATION: This notice is published as part of the National Park Service's administrative responsibilities under NAGPRA. The determinations in this notice are the sole responsibility of the Illinois State Museum. The National Park Service is not responsible for the determinations in this notice. Additional information on the determinations in this notice, including the results of consultation, can be found in the inventory or related records held by the Illinois State Museum.

Description

Between 1956 and 1957, human remains representing, at minimum, one individual were removed from the Jerry Long Cave site in Ralls County, MO. In 1957, faunal remains from this site were transferred to the Illinois State Museum for analysis. During that analysis, fragmentary human remains were identified. No associated funerary objects are present. These human remains are likely pre-contact in date.

Between 1961 and 1962, human remains representing, at minimum, three individuals were removed from the Tick Creek Cave site (23PH145) in Phelps County, MO. In 1963, faunal remains from this site were transferred to the Illinois State Museum for analysis. During that analysis, fragmentary human remains were identified. No associated funerary objects are present. Tick Creek Cave dates from the Late Archaic through the Woodland period.

Sometime prior to 1967, human remains representing, at minimum, three individuals were removed from an unknown location in St. Louis County, MO. These human remains were part of the Dickson Pathology Collection formerly used in exhibits at Dickson Mounds Museum. In 1967, these human remains were purchased from a private citizen by the Illinois State Museum. No associated funerary objects are present. The human remains are pre-contact in date.

In 1961, human remains representing, at minimum, one individual were removed from Goat Bluff Cave (also known as Bruce Cave) in Pulaski County, MO, during an archaeological survey. In 2007, the human remains were transferred to the Illinois State Museum. No associated funerary objects are present. The human remains are pre-contact in date.

Sometime in the 1970s, human remains representing, at minimum, six individuals were removed from an unknown location in Pulaski County, MO. In 2014, these human remains were transferred by a private citizen to the Illinois State Museum. No associated funerary objects are present. The human remains are pre-contact in date.

Sometime prior to 1977, human remains representing, at minimum, four individuals were removed from a location near Fredericktown, in Madison County, MO. In 2016, these human remains were transferred by a private citizen to the Illinois State Museum. No associated funerary objects are present. The human remains are pre-contact in date.

Sometime between 1960 and 1984, human remains representing, at minimum, one individual were removed from Carroll Cave, in Camden County, MO, by the University of Central Missouri. In 1985, a collection of faunal remains known as the Hawksley Collection of vertebrate paleontological specimens was transferred to the Illinois State Museum geology department. In 2023, human remains were discovered in this paleontological collection and were transferred to the Illinois State Museum anthropology department. No associated funerary objects are present. The human remains are pre-contact in date.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, historical, and oral traditional.

Determinations

Pursuant to NAGPRA and its implementing regulations, and after consultation with the appropriate Indian Tribes and Native Hawaiian organizations, the Illinois State Museum has determined that:

• The human remains described in this notice represent the physical remains of 19 individuals of Native American ancestry.

• There is a relationship of shared group identity that can be reasonably traced between the human remains described in this notice and The Osage Nation.

Requests for Repatriation

Written requests for repatriation of the human remains in this notice must be sent to the Responsible Official identified in ADDRESSES. Requests for repatriation may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after October 16, 2023. If competing requests for repatriation are received, the Illinois State Museum must determine the most appropriate requestor prior to repatriation. Requests for joint repatriation of the human remains are considered a single request and not competing requests. The Illinois State Museum is responsible for sending a copy of this notice to the Indian Tribe identified in this notice.

Authority: Native American Graves Protection and Repatriation Act, 25 U.S.C. 3003, and the implementing regulations, 43 CFR 10.9, 10.10, and 10.14.

Dated: September 8, 2023.
Melanie O'Brien,
Manager, National NAGPRA Program.

[FR Doc. 2023-19964 Filed 9-14-23; 8:45 am]

BILLING CODE 4312-52-P